DEPARTMENT OF TRANSPORTATION

Federal Railroad Administration

[Docket No. FRA-2022-0002-N-16]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. These ICRs describe the information collections and their expected burdens. On June 16, 2022, FRA published a notice providing a 60-day period for public comment on the ICRs.

DATES: Interested persons are invited to submit comments on or before November 25, 2022.

ADDRESSES: Written comments and recommendations for the proposed ICRs should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer at email: Hodan.Wells@dot.gov or telephone: (202) 868-9412.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On June 16, 2022, FRA published a 60-day notice in the Federal Register soliciting comment on the ICRs for which it is now seeking OMB approval. See 87 FR 36366. FRA received no comments in response to this notice.

Before OMB decides whether to approve the proposed collections of information, it must provide 30 days for public comment. Federal law requires OMB to approve or disapprove paperwork packages between 30 and 60 days after the 30-day notice is published. 44 U.S.C. 3507(b)-(c); 5 CFR 1320.12(a); see also 60 FR 44978, 44983 (Aug. 29, 1995). OMB believes the 30-day notice informs the regulated community to file relevant comments and affords the agency adequate time to digest public comments before it renders a decision. 60 FR 44983 (Aug. 29, 1995). Therefore, respondents should submit their respective comments to OMB within 30 days of publication to best ensure having their full effect.

Comments are invited on the following ICRs regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Special Notice for Repairs.

OMB Control Number: 2130-0504.

Abstract: Under 49 CFR part 216, FRA and State inspectors may issue a Special Notice for Repairs to notify a railroad in writing of an unsafe condition involving a locomotive, car, or track. The railroad must notify FRA in writing when the equipment is returned to service or the track is restored to a condition permitting operations at speeds authorized for a higher class, specifying the repairs completed. FRA and State inspectors use this information to remove from service freight cars, passenger cars, and locomotives until they can be restored to a serviceable condition. They also use this information to reduce the maximum authorized speed on a section of track until repairs can be made.

Type of Request: Extension without change (with changes in estimates) of a currently approved collection.

Affected Public: Businesses.

Form(s): FRA F 6180.8; FRA F 6180.8A.

Respondent Universe: 754 railroads.

Frequency of Submission: On occasion.

Total Estimated Annual Responses: 7.

Total Estimated Annual Burden: 3 hours.

Total Estimated Annual Burden Hour Dollar Cost Equivalent: $194.

Title: Bridge Safety Standards.

OMB Control Number: 2130-0586.¹

¹ The burden associated with § 214.105(c)(4), formerly covered under OMB Control No. 2130-0535, is now combined with the burden under OMB Control No. 2130-0586.

Abstract: The Fixing America's Surface Transportation Act (FAST Act) (Pub. L. 114-94, Dec. 4, 2015), Section 11405, “Bridge Inspection Reports,” provides a means for a State or a political subdivision of a State to obtain a public version of a bridge inspection report generated by a railroad for a bridge located within its respective jurisdiction. While the FAST Act specifies that requests for such reports are to be filed with the Secretary of Transportation, the responsibility for fulfilling these requests is delegated to FRA.² FRA developed a form titled “Bridge Inspection Report Public Version Request Form” (FRA F 6180.167) to facilitate such requests by States and their political subdivisions.

² 49 CFR 1.89(a).

Additionally, the collection of information set forth under 49 CFR 214.105(c) establishes standards and practices for safety net systems. Safety nets and net installations must be drop-tested at the job site after initial installation and before being used as a fall-protection system, after major repairs, and at 6-month intervals if left at one site. If a drop-test is not feasible and is not performed, then the railroad or railroad contractor, or a designated certified person, must provide written certification the net complies with the safety standards under § 214.105. FRA and State inspectors use the information to enforce Federal regulations. The information maintained at the job site promotes safe bridge worker practices while providing flexibility at bridge work job sites.

Furthermore, the collection of information set forth under 49 CFR part 237 normalized and established Federal requirements for railroad bridges.³ In particular, the collection of information is used by FRA to confirm that railroads/track owners adopt and implement bridge management programs to properly inspect, maintain, modify, and repair all bridges that carry trains for which they are responsible. Railroads/track owners must conduct annual inspections of railroad bridges, as well as special inspections that must be carried out if natural or accidental events cause conditions that warrant such inspections. Further, railroads/track owners must incorporate provisions for internal audits into their bridge management programs and must conduct internal audits of bridge inspection reports. FRA uses the information collected to ensure that railroads/track owners meet Federal standards for bridge safety and comply with all the requirements of part 237.

³ 75 FR 41281 (July 15, 2010).

Type of Request: Extension without change (with changes in estimates) of a currently approved collection.

Affected Public: Businesses (railroads and track owners), States, the District of Columbia (DC), and political subdivisions of States.

Form(s): FRA F 6180.167.

Respondent Universe: 784 track owners, 50 States and DC, and 200 political subdivisions of States.

Frequency of Submission: On occasion and annual.

Total Estimated Annual Responses: 200,480.

Total Estimated Annual Burden: 34,616 hours.

Total Estimated Annual Burden Hour Dollar Cost Equivalent: $2,680,686.

FRA informs all interested parties that it may not conduct or sponsor, and a respondent is not required to respond to, a collection of information that does not display a currently valid OMB control number.

Authority: 44 U.S.C. 3501-3520.

Brett A. Jortland,
Deputy Chief Counsel.

[FR Doc. 2022-23105 Filed 10-24-22; 8:45 am]

BILLING CODE 4910-06-P